CONSUMER PRODUCT SAFETY COMMISSION

[Docket No. CPSC-2010-0046]

Submission for OMB Review; Comment Request—Consumer Focus Groups

AGENCY: Consumer Product Safety Commission.

ACTION: Notice.

SUMMARY: As required by the Paperwork Reduction Act of 1995 (44 U.S.C. Chapter 35), the Consumer Product Safety Commission (CPSC or Commission) announces that the CPSC has submitted to the Office of Management and Budget (OMB), a request for extension of approval of a collection of information from persons who may voluntarily participate in consumer focus groups.

DATES: Written comments on this request for extension of approval of information collection requirements should be submitted by May 30, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2010-0046.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: In the Federal Register of February 11, 2014 (79 FR 8177), the CPSC published a notice to announce the CPSC's intention to seek extension of approval of the information collection under OMB Control No. 3041-0136. The CPSC received one comment from the Retail Industry Leaders Association (RILA).

1. Burden Hours—RILA states that the limited number and composition of the focus groups (20 groups in the next 3 years, with 10 persons each and 10 one-on-one interviews) would not provide the Commission with adequate data necessary to carry out a robust study on issues related to recall effectiveness.

Response: The focus group collection of information supports a variety of consumer focus group activities, and the collection is not limited to collecting information on the effectiveness of consumer product recalls. Other focus groups unrelated to recall effectiveness have been conducted in the past and may also be conducted in the future (e.g., pool and spa safety, recreational off-road vehicle restraint systems, and cpsc.gov Web site redesign). CPSC staff agrees that a robust study and review of the effectiveness of various methods of consumer notification based on consumer behavior would be useful. However, such a study would require information collection activities beyond the limited use of focus groups and likely would require additional resources. If, at a future date, CPSC staff obtains resources to undertake such a comprehensive study, CPSC will request a separate information collection authorization from OMB to support that effort.

2. Recall Effectiveness Study—RILA asserts that CPSC has not followed up on a recall effectiveness study conducted in 2003 by CPSC staff to examine the effectiveness of the various methods of communicating recalls to consumers. RILA also states that CPSC staff should work collaboratively with industry, including retailers as well as consumers, to effectively communicate recall messages to consumers.

Response: CPSC conducted an initial review of consumer recall communications and recall effectiveness rates in 2003, which helped inform the Commission on ways to improve recall notices. Since the 2003 review, CPSC staff has monitored recall effectiveness rates across a variety of product classes and pursued actions to improve recall effectiveness, including enhanced use of social media and other communication mechanisms. In addition, the Commission is currently conducting a questionnaire, Registration Card Data Collection, approved under OMB control number 3041-0165, which is directed at manufacturers to examine the effectiveness of registration cards for communicating recalls to consumers. Because voluntary recalls are agreed upon with industry, CPSC staff engages industry on the communication of each and every recall announcement. In addition, representatives of industry submitted a substantial number of comments on the Commission's recently proposed revisions to Voluntary Remedial Actions and Guidelines for Voluntary Recall Notices (November 21, 2013, 78 FR 69793), many of which addressed effective communication of recall notices to consumers. The CPSC currently is reviewing those comments.

CPSC seeks to renew the following currently approved collection of information:

Title: Consumer Focus Groups.

OMB Number: 3041-0136.

Type of Review: Renewal of collection.

Frequency of Response: On occasion.

Affected Public: Persons who volunteer to participate in consumer focus groups.

Estimated Number of Respondents: 200 participants over a 3-year period.

Estimated Time per Response: 367 hours annually.

Total Estimated Annual Burden: $34,276.

General Description of Collection: The CPSC solicits direct feedback from consumers on product use and consumer perceptions regarding product safety. Focus groups provide insight and information into consumer perceptions and usage patterns to help the Commission identify and evaluate consumer products and product use.

Dated: April 25, 2014.
Todd A. Stevenson,
Secretary, Consumer Product Safety Commission.

[FR Doc. 2014-09815 Filed 4-29-14; 8:45 am]

BILLING CODE 6355-01-P